DEPARTMENT OF HOMELAND SECURITY

Coast Guard

33 CFR Part 117

[CGD 008-07-017]

RIN 1625-AA09

Drawbridge Operation Regulation; Ouachita River, LA

AGENCY: Coast Guard, DHS.

ACTION: Notice of deviation from drawbridge regulation.

SUMMARY: The Commander, Eighth Coast Guard District has issued a temporary deviation from the regulation governing the operations of the U.S. 165 Bridge, Mile 110.1, Columbia, Louisiana across the Ouachita River. This deviation allows the bridge to remain closed-to-navigation from 8 a.m., August 6, 2007 until its removal from the waterway on August 31, 2007. The deviation is necessary in order to prepare the bridge for demolition.

DATES: This temporary deviation is effective from 8 a.m., August 6, 2007 until August 31, 2007.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, (314) 269-2378.

SUPPLEMENTARY INFORMATION: The Louisiana Department of Transportation requested a temporary deviation for the U.S. 165 Bridge, mile 110.1, at Columbia, Louisiana across the Ouachita River as preparation work is required on the bridge in advance of its scheduled demolition. The U.S. 165 Bridge currently operates in accordance with 33 CFR 117.483, which requires the drawbridge to open on signal if at least one hour notice is given. In order to facilitate the pre-demolition work, the drawbridge must be kept in the closed-to-navigation position. This deviation allows the drawbridge to remain closed-to-navigation from 8 a.m., August 6, 2007 until August 31, 2007. If the removal occurs prior to August 31, 2007, we will cancel this deviation via notice published in the local notice to mariners.

There are no alternate routes for vessels transiting this section of the Ouachita River.

The U.S. 165 Bridge, in the closed-to-navigation position, provides a vertical clearance of 50.2 feet above normal pool. Navigation on the waterway consists primarily of commercial tows and recreational watercraft. This temporary deviation has been coordinated with waterway users. No objections were received.

At the end of the designated time period, a Final Rule will be processed to remove this bridge from 33 CFR 117.483.

Dated: August 1, 2007.
Roger K. Wiebusch,
Bridge Administrator.

[FR Doc. E7-16493 Filed 8-21-07; 8:45 am]

BILLING CODE 4910-15-P